DEPARTMENT OF HEALTH AND HUMAN SERVICES

National Toxicology Program (NTP); Office of Liaison, Policy and Review; Meeting of the NTP Board of Scientific Counselors: Amended Notice

AGENCY: National Institute of Environmental Health Sciences (NIEHS), National Institutes of Health.

ACTION: Availability of a Public Telephone Call-In Line.

SUMMARY: This notice announces the availability of a public telephone call-in line for the June 11-12, 2008 meeting of the NTP Board of Scientific Counselors. The meeting will be held at the Radisson Hotel Research Triangle Park, 150 Park Drive, Research Triangle Park, NC 27709 and videocast through the Internet at http://www.niehs.nih.gov/news/video/live. Information regarding the meeting was announced in the Federal Register (73FR20289) published on April 15, 2008. The guidelines published in the April 15 Federal Register notice for submitting written public comments or making an oral presentation at the meeting still apply. In response to the public interest in the peer review of the Draft NTP Brief on Bisphenol A, the NTP will provide a telephone call-in line for public comments. The line will be open from 8:30 a.m. until 3 p.m. on June 11, although public comments will be received only during the formal public comment period on the draft brief. The exact time for the presentation of public comments is not set, but will follow the overview presentation on the draft brief and the talk on biomonitoring of bisphenol A exposures (the preliminary agenda is available at (http://ntp.niehs.nih.gov/go/165) or by contacting Dr. Barbara Shane, see FOR FURTHER INFORMATION CONTACT below).

ADDRESSES: Public comments on all agenda topics and any other correspondence should be submitted to Dr. Barbara Shane, Executive Secretary for the NTP BSC, NTP Office of Liaison, Policy and Review, NIEHS, P.O. Box 12233, MD A3-01, Research Triangle Park, NC 27709; telephone: 919-541-4253; fax: 919-541-0295; or e-mail: shane@niehs.nih.gov. Courier address: NIEHS, 111 T.W. Alexander Drive, Room A322, Research Triangle Park, NC 27709.

FOR FURTHER INFORMATION CONTACT: Dr. Barbara Shane (telephone: 919-541-4253 or e-mail: shane@niehs.nih.gov).

Telephone Call-in Line

The following information is required for telephone access:

• USA Toll Free Number: 877-915-2768.

• Passcode: NTP.

• Leader Name: Barbara Shane.

The NTP has reserved 50 telephone lines for this call and access availability will be on a first come first served basis. Telephone comments should not exceed three minutes in length and each organization is allowed only one oral slot (in person at the meeting or by telephone) per agenda topic. Calls will be taken as time permits and at the discretion of the BSC chairperson. Every effort will be made to accommodate callers, but the total time allotted for comments and the time allotted per speaker via the telephone will depend on how many people register online to speak. Registration to present oral public comments or to submit written comments can be completed online at the BSC meeting site (http://ntp.niehs.nih.gov/go/165). Details about the meeting, Internet access, and telephone call-in are also available at this site. The public telephone call-in is a new remote access option for the BSC, thus its technical quality cannot be guaranteed.

Persons who register online to make oral comments by telephone are asked, if possible, to send a copy of their statement to the Executive Secretary for the NTP BSC (see ADDRESSES above) by June 4, 2008, to enable review by the NTP BSC prior to the meeting. Written statements can supplement and may expand the oral presentation.

Dated: May 8, 2008.
Samuel H. Wilson,
Acting Director, National Institute of Environmental Health Sciences and National Toxicology Program.

[FR Doc. E8-11206 Filed 5-19-08; 8:45 am]

BILLING CODE 4140-01-P